DEPARTMENT OF HEALTH AND HUMAN SERVICES

National Institutes of Health

Center for Scientific Review; Amended Notice of Meeting

Notice is hereby given of a change in the meeting of the Center for Scientific Review Special Emphasis Panel, August 10, 2009, 8:30 AM to August 11, 2009, 6:00 PM, The George Washington University Inn, 824 New Hampshire Avenue, NW., Washington, DC, 20037 which was published in the Federal Register on July 27, 2009, 74 FR 37042.

The meeting will be held August 27, 2009 to August 28, 2009 at The River Inn, 924 25th Street, NW., Washington, DC 20037. The meeting time remains the same. The meeting is closed to the public.

Dated: August 20, 2009.
Jennifer Spaeth,
Director, Office of Federal Advisory Committee Policy.

[FR Doc. E9-20628 Filed 8-26-09; 8:45 am]

BILLING CODE 4140-01-P